DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2018. For purposes of this listing, long-term residents, as defined in section 877(e)(2), are treated as if they were citizens of the United States who lost citizenship.

Last name | First name | Middle name/initials
ABBOTT | ANIA | ALEXANDRA
ABE | YOSHIKO |
ADLER | MAEL |
ADLER | TORSTEN |
AKAGI | KOJI |
ALI-KHAN | NADEEM |
ALLAN | DANIEL | MARTIN
ALLAN | THERESA | FAYE
ALLBEE | MIYUKI |
ALLEN | JOYCE | E.
ANAND | PRISKA |
ANDREWS | SUSAN | NURIYE
ANNE | SESHU | K.
ARENS | MARC | OLIVER
ASBURY | MICHAEL | JAMES
ASHIKAGA | HISAYO |
ASHIKAGA | YUKEI |
ASMUSSEN | JAN | SIMON
ATHER | DANYAL |
AXBOE | MARIANNE |
AZADIAN | LYNN | REBECCA
BAKER | LUCILLE | G.
BAKER | MARK |
BAKER | MARTIN | G.
BAKER | MARTIN | G.
BAKHOS | MARC |
BALLARD | KEVIN | G.
BANKS | DEBBIE |
BARBER | JOHN | ANTHONY
BARTENEV | DMITRY |
BASAPPA | PRABHU | DEVA
BAUR | BARBARA | ANN
BAUR | HERBERT | KURT
BAVELIER | DAPHNE |
BEATHAM | GEOFFREY | HAROLD
BEAUFILS | JEANNE | ELIZABETH
BECKER | BERND | K.
BELL | MARY | ANN
BELL-DINGWALL | ANDREW | HARRISON
BELLEROSE | SATYA |
BENEKE | GAIL | E.
BERG | ALAN | ANDREW
BERG | GOERILD | J.
BERG | STIG | A.
BEUKEMA | SIMON |
BIRCH | CAROLINE | RALEY
BISCARO | SANDRA | DIANA
BISHOP | JOSHUA | EDWARD
BITAR | ANA | MARIA
BJERRUM | WHITNEY | MARIA
BLACK | JEFFREY | LEWIS
BLANCO | DANIEL | E.
BLUM | VIKKI-ANNE |
BOEUF | VALERIE |
BOGSNES | LISE | EILHARDT
BOHNER | DAVID |
BOSCHUNG | EMILIE | ASHLEY
BOULET | DENIS |
BOUZAS | JUAN | C.
BOWEN | LEAH | JUDITH ROBERTS
BOX | MARIE | J.
BOX | STEPHEN | A.
BOYD | LISA | BEDFORD
BRAND | JULIE | LUND
BRAUN | DAVID |
BRAUN | MICHAEL | J.
BRECHET | PAUL | RENE
BREITENMOSER | MARC | LUCA
BRENNAN | DONALD | WILLIAM
BRENNER | SYDNEY |
BRILL | THILO | M.
BROOKS | CHRISTOPHER | MICHAEL
BROWN | PATRICIA | FRANCES
BUCKLEY | MARY | ELIZABETH
BULL | JONATHAN |
BURKEY | KRISTY | F.
BURT | KEVIN |
BURT | LYNNE |
BUTLER MCGREGOR | SUSAN | JANE
BYFORD | EMMA | L.
BYRNE | ROSEMARY | ANN
CALLENDER | JACK | BROOKES
CAMMALLERI | ANTONINA |
CAMPOS | ABELARDO | JOSE
CANNAU | LIEVAN |
CARPENTER | BRIGITTE | H.
CARPENTER | MICHAEL | HENRY
CARRASCO | GLORIA |
CARRERA | ANA | JULIA
CARTWRIGHT | JESSICA | KIMBERLY
CARVEY | PAMELA | M.C.
CASE | TIMOTHY | JUSTIN
CASSIE | JOANNA | MARGARET
CHAN | KA | CHUNG
CHANG | CHIA | HSIANG
CHANG | CHINYI |
CHANG | PO | MING
CHANG | PO | YUAN
CHARDON | JEAN-MICHEL |
CHARNLEY | CHRISTOPHER | J.
CHEN | CAIYING |
CHEN | MING | HUEI
CHEN | NAISHUO |
CHEN | YING | HSUN KUO
CHIA | DAPHNE | THERESA
CHIBUK | THEA | KATHRINE
CHO | SU | HYUN
CHOI | SUNGHAN |
CHOU | HSINYING |
CHUA | THEODOR | WEN-JIE
CLARKE | LAURA | KRISTINE
COLLINGRIDGE-PADBURY | NESTA | CADWALADR
COLLYNS | CHARLES | N.
COLTON | MATTHEW | A.
CONNELL | MICHAEL |
CONNOLLY | DANIEL | ALBERT
CONTE | EDOUARD | LOUIS FRANCIS
COOPER | CHRISTINE | KATHRYN
COOPER | JANE | ELIZABETH
COOPERBAND | JARED | MICHAEL
COVEY | MORGAN | SHILOH
CRESPEL | AGATHE | MARIE
CUI | BAOQIU |
DALTON | DEBRA | J.
DALTON | STEPHEN | R.
DALY | BARBARA | H.
DANCOES | ELIZABETH | THERESA
DANNHEISSER | ILANA | SANDRA SNYDER
DAREKAR | BAL | SWARUPRAO
DAVID | KLAUS |
DAVIDSON | IAN | A.
DAVIES | IAN | D.
DAVIES | RACHEL |
DAVIES | WENDI | ANNETTE
DE GASPARIS | IRENE |
DE HAAN | COLLEEN | H.
DE MORCHOVEN | BORIS | PAPEIANS
DEBAHY | ANTHONY | FADI
DEEGAN | SHANNON |
DEHAAN | JENNIFER |
DEHAAN | PETER |
DELAUNEY | MAURICE |
DELLA CROCE | UGO |
DELRIO | OLGA | LEONIDOVNA
DENG | YINGTAO |
DERBOWKA | JUDY | LYNN
DESCLEE DE MAREDSOUS | MARGUERITE |
DIEBOLD SAFIAN | GABRIELLE | ANGELICA
DIORINOS | MARKELLOS |
DO | HYUNGROK |
DOMINGUEZ | GRACE | JASMINE
DOWNES | JULIA |
DRISCOLL | IAN | P.
DUNLOP | COLIN | GEORGE
DUNLOP | ILSE | JANE
DUNLOP | SCOTT | DOUGLAS
DUTREIL | CHRISTINE |
DUTREIL | RENAUD |
EASTEP | RICK | RAYMOND
EBERLE | VINCENT | URS
ERVIN | KAJAL |
ERWIN | MICHAEL | EUSTACE
EVANS | MEAGAN | A.
FARHI | SEBASTIEN |
FARLEIGH | RICHARD | PAUL
FATTE | KAREN | CHRISTENSEN
FELDMAN SQUIRES | ALLISON | JILL
FENG | JIE |
FEYEREISEN | MICHAEL | ROBIN
FIGG | JASMINE | AMELIA
FINEGOLD | AVIEL |
FIORE WALDER | GINA | ANNA
FOCK | WALTER |
FODOR | PAUL | KEVIN
FOGAL | VALENTINA |
FOON | DENNIS | TODD
FORM | BJORN | CHRISTOPHER
FORM | PETER | ANDERS
FORSTER | MICHAEL | JOHN
FOSTER | KATHLEEN | MAY
FOSTER | VALERIE | KATHLEEN
FOWLES | ROBERT |
FOX | ANGELA | L.
FOX | PAULA | A.
FRAIRE | ERNESTO | A.
FRANK | KLAUS | H.
FRANZOS | YVETTE |
FREY | ANDREA | CHRISTINA
FRIESEN | KENNETH | D.
FRIEZNER-BLANC | DEBRA | RAE
FRONGILLO RYAN | IDA-MARIA |
FULCHER | DAVID |
GABBIANI HAGERTY | SEAN | DANTE
GAGE | MICHAEL | S.
GAGE | ZENAIDA |
GALVAGNO | ANTONIO | TIMOTHY
GAMSGAARD | MIA | KATRINE DONOVAN
GARCIA | GLAUCIA | M.
GEELMUYDEN | KURT-HERVE |
GENTILS | ALICE |
GERBAS | ANKE |
GHIM | SONGHEE |
GIBBS | MARK | T.
GLASGOW | CHRISTOPHER |
GOCKEL | GUIDO |
GOODLAND | JAMES | S.
GOTTA | PETRA | GERDA
GRAF | DENISE | CHERYL
GRANT | PAUL | H.
GRAS | GREGOIRE | RODOLPHE MARCEL
GREEN | AMY | LYNN DREIMAN
GREEN | DEBRA | C.
GREENE | EMMA | JOSEPHINE
GRESHAM | TRACY | A.
GROSE | GEORGE | F.
GROTE-DAHLKE | MARTINA | HENRIETTE
GROVE, JR | JAMES | ROBERT
GUIVER | JESSAMYN | DOANNA
GUPTA | RAHIL |
GUPTA | RAJESH | H.
HAFNER | ANDREA | KARIN
HAMILTON | CAROL | ANE
HANDLEY | NICHOLAS | J.
HANEY | PETER | EDWARD
HANSEN | AMELIA | S.
HANSEN | ANDREW |
HANSEN | MARK | CHRISTIAN
HARDCASTLE | STUART |
HARPER | ROBERT | CONNOR
HARRIS | ROBERT | J.
HARRIS | WILLIAM | JOHN
HARTNER | DIANA | THERESINA C.M.M.
HASSETT | MARY | T.
HATZIDIMITRIOU | JACOB |
HAUPTER | BIRGIT |
HAURI | PETER | THOMAS
HAY | WARREN | ALEXANDER
HAYWOOD | ELIZABETH |
HE | LI |
HEDWAT | CLARE |
HELLMANN | JOST | ALEXANDER
HELLMANN | KRISTIANA | KAROLIN
HENDERSON | LORRAINE | ANNE
HENDON | ELKE | J.
HENLEY | VIRGINIA | J.
HENNESSEY | SUSAN | SHAWN
HERRE | JAN |
HINCHCLIFFE | JOHN |
HIROKI | RUMI |
HIRT | SUSANNE |
HO | TECK-HUA |
HODGINS | STEPHEN | R.
HOEVELMANN | THOMAS | WALTER
HOFMANNER | THOMAS | HENRY
HOLLAND | ALEXANDER | MILES
HOLLISTER | PATRICIA | ANN
HOWARTH | MAXINE |
HSIEH | YI | CHENG
HSU | YI-MING |
HUANG | HUA |
HUEBERT | LEONA |
HUEBERT | NORMAN |
HUG | KATHRIN | ANDREA
HULYALKAR | HARISH |
HUNG | HSIN | CHIA
HUNSINGER | MARY | ISABEL
HUNSINGER | RONALD | B.
HUNT | MICHAEL | E.
HYDE | RICHARD | STUART
IMAMOGLU | EMRE | DENIZ
IMM | PAUL | EDWARD
INMAN | LONNI | SUE
ISMAIL | SALIM |
ISMAIL | TARMIZA |
ISTEL | EDELTRAUD | MARIA
JAEGGI | PATRICIA | RUTH
JENKINS | NEOLA | ASTRID
JENKINS | TATIANA | LYNN
JIANG | LANG | SHU
JIANG | YIWEI |
JOHANSSON | LARS | CONRAD
JOHNSON | ANNE-MARIE |
JUDD | SHARON | W.
KAGI APPIUS | KAREN | ELISABETH
KANTER | ANDREA | C.
KAPS | JAMES | MICHAEL
KARST | GARRY | JAMES
KASTNER | JEREMY | LLOYD
KAWAGUCHI | TAZUKO |
KENNEDY | PETER | CLAYTON
KENVIL | MARK | S.V. ELSASSER
KHOO | MIRIAM |
KHOURY | MICHAEL | JOHN
KIRBY | ROGER |
KLAMER | CLINTON | MAYNARD
KLASNER | ADAM | MARK
KLASNER | SARA | REBECCA
KLOOS | JANET | RISSER
KLOSE | ANNA |
KLUG | MARILYN | FAYE
KOBAYASHI | MARI | ANN
KOEBERLEIN | STEFFEN |
KOELLE | CHRISTOPHER | JOSEPH
KOHL | ALEXANDRA | SABRINA
KOMATSU | KATSUHIRO |
KOMATSU | NARUMI |
KONDO | YOICHIRO |
KONISHI | KENKIRO |
KRALIK | JANE | MARIE
KRAMER | DONALD | LAWRENCE
KREINER | NINA | MARIE
KREUZER | LEONHARD | ERICH BRUCE
KRONE | BETTINA | M.
KUDRITZKI | ELFREIDE | M.
KUDRITZKI | ROLF-PETER |
KUHN | ANDREA | NICOLE
LA RIVIERE | MICHAEL | T.
LAMBE | ERIC | ALFRED
LANGHELD | GEORG | C.
LASZLO-TAIT | RACHEL | A.
LAUGHERY | ALEXANDER | SEAN
LAURITZEN | JOHN | VALLIANT
LEE | CHIN-LING |
LEE | HYOSANG |
LEE | MARSHA | MICHELE
LEE | SANG | MIN
LEE | SOO | KING
LEGER | RONALD | JOSEPH
LEHMANN | CHRISTOPH |
LEHMANN | RODICA | E.
LEIBUNDGUT | FIONA | SELINA
LEMARIE | CHRISTINE |
LEMARIE | CHRISTOPHE |
LEONARD | MATTHIEU |
LESCH | HENRIKE | SUSANNE
LEUTWILER | CANAAN | CEDRIC ROLAND
LEVIN | PHOEBE | RACHEL
LHUILLIER | CHRISTOPHER | CHARLES
LI | SHUPING |
LI | WENDONG |
LI | WEN-MIN |
LIM | HUCK | JOO
LIM | KAI | EN CHRISTOPHER
LISS | KANE | YOTARO
LISTER | ROBIN | M.
LITTRELL | CHARLES | WATTS
LIU | XIANBING |
LLERENA | JULIE |
LOUDEN | KEITH | EDWARD
LOW | LING-LING |
LU | YU-JU |
LUECKEL | GORDON | MARCUS FRED
LUI | LYDIA | LIANG HUI
LUNDEN | FRASER | GARY
LUO | CHUYUN |
LUTENBACHER | HAROLD | KENJI
MACDOUGALL | LORNA | JEAN
MACOVEI | EUGEN |
MACROPULOS | KIMON | M.
MADDEN | FRANK | JEROME
MAGUS | JEFFREY | COLIN
MAKSIMYADIS | NIKO |
MARAVAL | CHRISTAANE | C.
MARCHETTI | JOSE | L.
MARCUS | STEEN | ERIK
MARKOVICS | STEPHANIE | E.
MASAKI | MASAMI |
MATSUSHIGE | TOMOAKI |
MATTHEWS-HAYWOOD | AMANDA | GRACE
MAUNTON | DAVID |
MAUNTON | TERESA |
MAURER | MARK | ROSS
MAZURANIC | STANISLAS | PIERRE FRANCOIS
MC ANARNEY | CALVIN | SCOTT
MCCARTHY | SIMONE | CATHERINE
MCCARTHY | STEPHEN | EDWARD
MCCOWAN | SANDRA | LYN
MCDOWALL | AILEEN | KATHRYN
MCDOWALL | GREGOR | JAMES STEWART
MCGIRR | GLORIA | JEANNE
MCIVER | JANET | ELISABETH
MCNEIL | RODERICK | D.
MCPHERSON | JEAN | M.
MCPHERSON | JOHN | G.
MEAGHER | ANDREW | G.
MEILICH | ARIEL |
MELLOW | NANCY | KATHERINE
MENEZES | JORGE | L.
MERBACH | DIANNE |
MESSICK | ROBERTA |
MEYER | BEAT | HANS
MEYERSEN | ANNETTE | FRANZISKA
MICHEL | KYRA | LEA
MICHEYL | CHRISTOPHE | D.
MILLARD | LISA | MICHELE
MILLER | AMANDA | N.
MILLS | JACEY | LEE
MITSUI | NATSU | ALEXANDRA
MIYAZAKI | MARIKO |
MIZUNO | HIROKO |
MOIR | NEIL |
MOK | OI | K.
MOLDOFSKY | DEBORAH | EILEEN
MONTAGUE | GREGORY | D.
MORRIS | JOYCE | LENORE
MORROW | CHRISTOPHER | JAN
MORTIER | CHARLOTTE | ANNIE
MOW | RUTH | WEN EN
MUHLERT | QUENTIN |
MULLEN | PETER |
MUNCE | PATRICIA |
NAGAO | KENTARO |
NAKAMURA | HIDEYO |
NAKAMURA | NORIKO |
NANDINI | SAMBAMURTHY |
NASSER | LILIANE | M.
NASSER | NABIL | E.
NATALI | MARIA |
NEUMAN | TAL |
NG | MARGARET |
NICHOLS | JULIAN |
NICKL | WERNER | ALFRED
NIELSEN | CARL | HELGE
NIGGLI | MARK | ANTHONY
NIJSTEN | STEFANUS | H.
NORMAN | MARILYN | ANN
NOTZ | MICHELE | PATRICIA
NOVAK | JASON | RYAN
NSOULI | FARES | ATEF
NUSSBAUM-LAPPING | JACQUELINE | MANUTCHAYA
OBRADOVIC | DAVOR |
OCAMPO | RAMON | S.
OCONNOR | MICHAEL | JOSEPH
ODFJELL | ANDREAS |
OGNESS | JOHN | CARL
OGNIEWICZ | OREN | LEON
OHLER | SABINE |
OKUBO | NOBUHIKO |
OLIVO | LAURENCE | MICHAEL
OLIVO-MOORE | MICHAEL | ALEXANDER
ORCHARD | JAMES | P.
OROZCO | JOSE | ENRIQUE
OROZCO PADILLA | ANDREA |
OROZCO PADILLA | DANIEL | OROZCO
ORVET | JAAN |
OSTEN | NIELS | D.
OSTERWALDER | JOAN |
OTTE | ISABELLE | MARIE
OZEKI | MASAYOSHI |
PADILLA | ROSA | MARIA
PALOUMBIS | MARIANNA | KLEO
PAPAGEORGIOU | GEORGE |
PAPAGEORGIOU | LYDIA |
PAPIN | JEAN-PHILIPPE | MICHEL
PARTRIDGE | ERIC | JAMES
PASI | TATIANA | ELISABETH
PATEL | MOHANBHAI | M.
PATEL | RASHMIBEN | M.
PATEL | VELJI | R.
PEARCE | ELLEN | ANNE
PEASE | RICHARD | G.
PEDLEY | BRADFORD | JOHN
PEKEL | LEONIE | C.
PENNER | DEREK | GERALD
PENSIS | ALBERT | E.
PERDOMO-JORDAN | MARCELLA | THERESA
PERLGUT | DONALD | JAY
PETERS | MAARTEN |
PHILLIPS | GAIL | ANN
PODESTA | STEPHEN | W.
POGGI | TAIS | E.
POHLMANN | MEREDITH | ISABELLILAH
POLLARD | GARY |
PRABHUDEVA | MANJULA |
PREVOST | LEA | DIANA
PROBERT | PETER | J.
PROBERT | ZOE | R.
PROFT | ZACHARY | ADAM
PROUTY | BENJAMIN | DOWLING
PYNE | JACOB | CHARLES
QUINLAN | STEPHEN | CHARLES
QUINN | PATTY | MARIE
QUINN | WILLIAM | WALTER
RADEJKO | BOHDAN |
RADKE | KATJA |
RADKE | OLIVER | C.
RADOVIC | NIKSA | ANTUN
RAMANI | AMIT |
RAMSEY | CAROLINE | T.
RECANATI | MAY |
REISSNER | HUGO | APFELBECK
REMME | LYSLIE | JEAN
RENKEN | UWE | D.
REUTER | AVIVA | ROTHMAN
RILEY | DAVID | M.
RIVERA JUAREZ | ALYN | KEREN
ROACH | DOUGLAS | COITE
ROBINSON III | RICHARD | LA RUE
ROMANELLI | PIETRO | MAURO FRANCESCO
ROSS | ANITA | K.
ROSWALL | MARTIN |
ROWDEN | KAREN | E.
ROWLAND | HILARY | SERINA
ROYER-BUSSE | CECILIA | LAURINE MARIE
RYBACK | MARIE-LOUISE |
RZEZNITZECK | PETER |
SCANDAR | LARA |
SCANDAR | TAMARA |
SCARBROUGH | WILLIAM | DEAN
SCHAER | RALPH | EDWARD
SCHELL | ANDREAS |
SCHELL | ANKE | E.
SCHEU | SVENJA | VANESSA
SCHEWE | ANNETTE |
SCHILTER | ROMAN |
SCHLAEPFER | MARTIN | ANDRE
SCHMIDT | WESLEY | LYNN
SCHMIDT-RADDE | THOMAS | RICHARD
SCHMIDT-RZEZNITZECK | WALBURGA |
SCHMITZ | JANET | LOUISE
SCHNEIDER | PATRICIA | C.
SCHNEIDER FILHO | RUBEN | L.
SCHOENEN | DANIEL |
SCHOEPP | MARGARET | KATHERINE
SCHOEPP | PAUL | WALTER
SCHURTER | BRUNO | H.
SCHWANTES | REBECCA |
SCHWARZLOSE | MONIKA | LUISE
SCORAH | DALE | E.
SCOTT | COURTNEY |
SCOTT | DAVID | C.
SEIDEL | MARKUS | JOHN
SEKINE | SEAN | YOSHITATSU
SEYFFERT | SVEN |
SHAKER | MOHAMED | AMER
SHARP | VANESSA | JANE BUCKLEY
SHEEHAN | SUSAN | ANN
SHERIDAN | SUSAN |
SHI | DANZHU |
SHINOMIYA | KEN |
SIEGFRIED | KARI | LEE
SILVA DAMAS DE CABALLERO | OTAVIA | LUISA
SIM | SHIRLEY | M.
SMITH | EVELYN | A.
SMITH | MIRANDA | JANE
SMITH | STEPHEN | M.
SOHN | JUNG | MI.
SOLTANIEH | ARASH |
SON | TAE | WOO
SPIESS | MAXIMILIAN |
SPOORENBERG | MURIEL | V.
STEEL | KATHERINE |
STEINER | VICKY | MARION
STELCK | DAVID |
STEMANN | CHRISTINA | MARIA
STEPANOV | VLADIMIR |
STEPHENS | DIANA | CARLA
STEPHENS | DOUGLAS | AUBREY
STEPHENSON | SHIRLEY | L.
STEVENS | NICHOLAS | KENDALL
STOCKLEY | BETH | ANNE
STRANO | ALEXANDER |
STRANO | SALVATORE |
STRAUSS | AMY | LISWOOD
SUAREZ-FRAEFEL | ALEXANDRE |
SUDAMA | RAM |
SUENSON | EMIL |
SUNDARARAJAN | SUBHA |
SUNG | KAY |
SUTTER | CONNIE | LYNN
SUZUKI | SHIORI |
SWAN | REBECCA | JEAN
SZIKMAN | HENRY |
TAKAHASHI | SAYAKA |
TAKEUCHI | SHINTARO | KEVIN
TAM | DIAMOND | YAT FAI
TAMS | MATTHEW | A.
TAN | AMELIA | LI SHI
TAN | YURI | ONOGUCHI
TANAKA | RINA |
TANAKA | SATOE |
TANAKA | SHUNJI |
TANAKA | YASUYUKI | Y.
TANAKA | YUJI |
TANG | BIN |
TANG | KAI-HSUN |
TANG | PENG | WAH
TANNER | STEPHAN | CHRISTOPHER
TATLOCK | AI |
TATTRIE | TERRY |
TAYLOR | BRYCE | NICOLAS
TAYLOR | NEIL | PATRICK
THACKWRAY | EMMA | D.C.
THE | AUDREY | RUTH
THOMAS | ANNE | MARGARET
THOMSON | LARRY | W.
THOMSON | SHEILA | M.
THOREZ | GERARD |
THURN | JONATHAN | HULMUT
TILCH | KATHRYN | JO.
TINTELNOT | JULIUS |
TONAKI | MIWA |
TORETTA | ANNA | P.
TOWNSEND-STOJIC | JANET | ELIZABETH
TRESHANSKY | ANNABEL | M.
TRIBULL | DEBORAH | W.
TRIGILI | ELVIRA | ANGELA
TRIGILI | GRACE | RITA
TRIVETT | LESLEY | KAREN
TRUEPER | BONNIBEL | BERYL BAER
TSAI | CHUAN | CHUNG
TSCHUDIN | FRANCOISE | FERNANDE
TSURUOKA | AKIRA |
TUBBS | VICTORIA |
TUNSTALL | CAROLE |
TUOHY | MARTIN | C.
TUOHY | PATRICIA |
TURNER | ANNE |
TURPIN VAN DAEL | ISABELLE |
URBANO | GUIOMAR | K.
VAN DAEL | PETER |
VAN KAN | NICOLINE |
VARDENI | LUCIEN |
VECKMANS | CATHERINE | LINE-JEANNE-MARIE
VICENZINO | NICOLE | ASHLEY
VILANO | ANTHONY | GEORGE
WADE | MARK |
WAERN | PER | ANDERS G.
WALKLING | ADRIAN | P.
WALL | ADAM | O.
WALL | RACHAEL | J.
WALLACE | WILLIAM | BRUCE
WALLER | SALLY | K.
WALTON | ROBERT |
WANG | JINGBO |
WANG | YAN |
WANG | YE | RUNG
WANG | YU | JING
WATANABE | KAZUNORI |
WATANABE | MASAKO |
WATANABE | YUMEKA |
WATSON | ANNE-MARIE |
WATSON | DUNCAN | M.
WEBB | ALLISON | KIM
WEBB | JOAN |
WEBB | ROY | K.
WEISBROD | ALDO | HANS
WEISENBERGER | SHEREE |
WELTER | EDWARD | EMILE
WERLEN | LAURA | KATHERINE
WHETUNG | GARY |
WHITE | JANE | J.
WHITE | KAREN |
WIJAYA | RIDWAN |
WIJONO | WIDYANTO |
WILLE | JESSICA |
WILSON | ANA | M.
WOLF | GRIFFIN | JAMES
WOLF | LAUREN | TERESE
WOLLEB | ANNE | ELISABETH
WONG | HSIN | Y.
WONG | MARK | YU-ZHENG
WONG | STEPHEN | ARTHUR SIEW CHOONG
WONGSO | RONAWATI |
WOODRUFF | DENISE | GAGNON
XIA | XIAOJUN |
XIE | XINKAI |
XU | ZIFA |
YACOT | ANALIA | B.
YAMADA | EIKO |
YANG | PING |
YEH | DANIEL |
YOUNG | ANTONY | M.
YOUNG | NANCY |
YULE | SUSAN |
ZHANG | DAYING |
ZHANG | HAIMIN |
ZHANG | XINZHAO |
ZHANG | YI |
ZHAO | TIAN |
ZHONG | XIAO | JIN
ZHONG | YONG |
ZINN | LEONARD | SEBASTIAN
ZUENDORF | PETER |
ZUENDORF | STEPHANIE |

Dated: February 26, 2019.
Diane Costello,
Manager Classification Team 82413, Examinations Operations—Philadelphia Compliance Services.

[FR Doc. 2019-04634 Filed 3-12-19; 8:45 am]

BILLING CODE 4830-01-P